DEPARTMENT OF THE INTERIOR

National Park Service

[NPS-WASO-NAGPRA-11269; 2200-1100-665]

Notice of Inventory Completion: Washington State Parks and Recreation Commission, Olympia, WA

AGENCY: National Park Service, Interior.

ACTION: Notice.

SUMMARY: The Washington State Parks and Recreation Commission has completed an inventory of human remains, in consultation with the appropriate Indian tribes, and has determined that there is a cultural affiliation between the human remains and a present-day Indian tribe. Representatives of any Indian tribe that believes itself to be culturally affiliated with the human remains may contact the Washington State Parks and Recreation Commission. Repatriation of the human remains to the Indian tribe stated below may occur if no additional claimants come forward.

DATES: Representatives of any Indian tribe that believes it has a cultural affiliation with the human remains should contact the Washington State Parks and Recreation Commission at the address below by November 13, 2012.

ADDRESSES: Alicia Woods, Washington State Parks and Recreation Commission, P.O. Box 42650, Olympia, WA 98504-2650, telephone (360) 902-0939.

SUPPLEMENTARY INFORMATION: Notice is here given in accordance with the Native American Graves Protection and Repatriation Act (NAGPRA), 25 U.S.C. 3003, of the completion of an inventory of human remains in the possession of the Washington State Parks and Recreation Commission. The human remains were removed from three different locations in Pacific County, WA.

This notice is published as part of the National Park Service's administrative responsibilities under NAGPRA, 25 U.S.C. 3003(d)(3). The determinations in this notice are the sole responsibility of the state agency that has control of the Native American human remains. The National Park Service is not responsible for the determinations in this notice.

Consultation

A detailed assessment of the human remains was made by Washington State Parks and Recreation Commission professional staff in consultation with representatives of the Shoalwater Bay Tribe of the Shoalwater Bay Reservation, Washington, and the Chinook Nation, Washington (a non-Federally recognized Indian group). The Confederated Tribes of the Chehalis Reservation, Washington, were contacted by mail and telephone but declined formal consultation unless neither of the aforementioned groups made a claim.

History and Description of the Remains

Sometime prior to 1958, human remains representing, at minimum, one individual were removed from a house in the town of Ilwaco, in Pacific County, WA. The human remains consist of a partial cranium. The Ralph Wilson family discovered the remains under their house and donated them to the Washington State Parks and Recreation Commission, at Fort Columbia State Park. No known individuals were identified. No associated funerary objects are present.

Sometime prior to 1958, human remains representing, at minimum, one individual were removed from an unknown site located in the town of Ilwaco, in Pacific County, WA. The human remains consist of a mandible and mandibular dentition. Dr. W. Iles discovered the remains and donated them to the Washington State Parks and Recreation Commission, at Fort Columbia State Park. No known individuals were identified. No associated funerary objects are present.

Sometime prior to 2001, human remains representing, at minimum, one individual were removed from a site believed to be located in or near Fort Columbia, in Pacific County, WA. The human remains consist of one nearly complete cranium. As the remains were located in the Fort Columbia State Park collections and were undocumented, they are believed to have originated either from Fort Columbia or from one of three nearby sites. No known individuals were identified. No associated funerary objects are present.

Following examination by a physical anthropologist, the human remains described above were determined to be consistent with Native American heritage based cranial and dental morphological characteristics. All of the remains were removed from locations near Fort Columbia State Park, in Chinook, Pacific County, WA. Fort Columbia was built as a U.S. military installation at Chinook Point beginning in 1896, was completed in 1904, and became a state park in 1950. During its construction, an undocumented number of Native American burials were discovered. Since that time, additional burials have been located in documented sites surrounding the park boundaries.

Fort Columbia State Park is located on the north bank of the Columbia River, along the eastern leg of Baker Bay, east of Chinook Point and at the base of Scarborough Hill. The lands around Baker Bay and along Chinook Point were the aboriginal lands of the lower-river Chinook Indians. Scarborough Hill, along with Chinook Point, has figured prominently in lower-river Chinook Indian legends and served as one of many burial grounds in the area for the Indians. Early explorers Captain Robert Gray (1792), Captain George Vancouver (1792), and Captains Meriwether Lewis and James Clark (1805) documented the lower-river Chinookan Indians, including their traditional habitation of the north bank of the Columbia River during spring and summer months. Throughout the next two centuries, additional documentation of the lower-river Chinook people was produced by explorers, pioneers, anthropologists, and visitors to the region. Based on the location of the remains, the Washington State Parks and Recreation Commission has determined that the Chinook Indians, a non-Federally recognized Indian group, maintains the closest cultural and ancestral connection to these By the end of the nineteenth century, lower-river Chinook society had been all but decimated, and by 1900, some of the remaining Chinook Indians merged with Indians to their north, in the Shoalwater Bay region (now named Willapa Bay). Based on this history, the Washington State Parks and Recreation Commission has determined that the Shoalwater Bay Tribe of the Shoalwater Bay Reservation, Washington, is the Indian tribe having the closest shared group identity with the human remains.

Determinations Made by the Washington State Parks and Recreation Commission

Officials of the Washington State Parks and Recreation Commission have determined that:

• Pursuant to 25 U.S.C. 3001(9), the human remains described in this notice represent the physical remains of three individuals of Native American ancestry.

• Pursuant to 25 U.S.C. 3001(2), there is a relationship of shared group identity that can be reasonably traced between the Native American human remains and the Shoalwater Bay Tribe of the Shoalwater Bay Reservation.

Additional Requestors and Disposition

Representatives of any Indian tribe that believes itself to be culturally affiliated with the human remains should contact Alicia Woods, Washington State Parks and Recreation Commission, P.O. Box 42650, Olympia, WA 98504-2650, telephone (360) 902-0939, before November 13, 2012. Repatriation of the human remains jointly to the Shoalwater Bay Tribe of the Shoalwater Bay Reservation, Washington, and the Chinook Nation, a non-Federally recognized Indian group, may proceed after that date if no additional claimants come forward.

The Washington State Parks and Recreation Commission is responsible for notifying the Confederated Tribes of the Chehalis Reservation, Washington; the Shoalwater Bay Tribe of the Shoalwater Bay Reservation, Washington; and the Chinook Nation, a non-Federally recognized Indian group, that this notice has been published.

Dated: September 12, 2012.
Sherry Hutt,
Manager, National NAGPRA Program.

[FR Doc. 2012-25046 Filed 10-10-12; 8:45 am]

BILLING CODE 4312-50-P